DEPARTMENT OF THE INTERIOR

National Park Service

National Register of Historic Places; Notification of Pending Nominations and Related Actions

Nominations for the following properties being considered for listing or related actions in the National Register were received by the National Park Service before December 26, 2009. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St. NW., 8th floor, Washington, DC 20005; or by fax, 202-371-6447. Written or faxed comments should be submitted by February 3, 2010.

J. Paul Loether,
Chief, National Register of Historic Places/National Historic Landmarks Program.

ARKANSAS

Jefferson County

Antioch Missionary Baptist Church Cemetery, 500 N. McKinney Rd., Sherrill, 09001299.

CALIFORNIA

San Francisco County

One Lomard Street, 1 Lombard St., San Francisco, 09001300.

GEORGIA

Douglas County

Beulah Grove Lodge No. 372, Free and Accepted York Masons—Pleasant Grove School, 2525 Old Lower River Rd., Douglasville, 09001301.

IOWA

Cedar County

Red Oak Grove Presbyterian Church and Cemetery, 751 King Ave., Tipton, 09001302.

Plymouth County

Sacred Heart Hospital, 110 6th Ave. NE, LeMars, 09001303.

Washington County

Miller, Alex and Ola (Viola) (Babcock), House, 429 S. Marion Ave., Washington, 09001304.

KENTUCKY

Boyle County

Terrace Court Historic District, Terrace Ct., N. and S. sides, W. of Old Wilderness Rd., Danville, 09001305.

Campbell County

Newport Courthouse Square Historic District, York St., Court Pl., Fourth St., Newport, 09001306.

Green County

Mud Brick House in Greensburg, 429 Campbellsville Rd., Greensburg, 09001307

Henry County

Callaway-Goodridge-Robertson Farm, 6041 KY 1861, Smithfield, 09001308.

Kenton County

Fourth District Elementary School, 1508-1510 Scott St., Covington, 09001309.

Gaines, Col. Abner, House (Boundary Increase), Address Restricted, Walton, 09001310.

Mason County

Helena United Methodist Church, 6479 Helena Rd., Helena, 09001311.

Simpson County

Franklin Grade and High School, 513 W. Madison St., Franklin, 09001312.

Warren County

Milliken Building, 1039 College St., Bowling Green, 09001313.

WISCONSIN

Brown County

Main Avenue Historic District, 301-377 (odd only) Main Ave., De Pere, 09001314.

Forest County

Minertown—Oneva, State Trunk Hwy. 32, Carter, 09001315.

[FR Doc. 2010-841 Filed 1-15-10; 8:45 am]

BILLING CODE P